DEPARTMENT OF ENERGY

Federal Energy Regulatory Commission

[Project No. 3185-005]

Pembroke Hydro Associates LP; Notice of Application Accepted for Filing, Soliciting Comments, Motions To Intervene, and Protests

Take notice that the following hydroelectric application has been filed with the Commission and is available for public inspection:

a. Application Type: Application for Non-capacity Amendment.

b. Project No: P-3185-005.

c. Date Filed: March 21, 2019.

d. Applicant: Pembroke Hydro Associates Limited Partnership, a subsidiary of Eagle Creek Renewable Energy.

e. Name of Project: Webster Pembroke Hydroelectric Project.

f. Location: The project is located on the Suncook River between the towns of Pembroke and Allentown in Merrimack County, New Hampshire.

g. Filed Pursuant to: Federal Power Act, 16 U.S.C. 791(a)-825(r).

h. Applicant Contact: Robert A. Gates, Eagle Creek Renewable Energy, 65 Madison Ave., Suite 500, Morristown, New Jersey 07960, (973) 998-8403.

i. FERC Contact: Kurt Powers, (202) 502-8949, kurt.powers@ferc.gov.

j. Deadline for filing comments, motions to intervene, and protests: 30 days from the issuance date of this notice by the Commission.

The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-3185-005.

k. Description of Request: The exemptee proposes to remove a portion of stacked stone blocks, of varying dimensions, and stone cap blocks from the Pembroke Dam. The removal area totals approximately 30 linear feet or 380 square feet of the existing dam. The stone blocks would be removed one by one via a crane that would be placed on a pad located on previously disturbed grass adjacent to the Emerson Mill Condos. The stone blocks would be taken off-site and either donated or disposed of properly. The work is expected to take two to three weeks to complete. The exemptee would continue to meet minimum flow requirements during the work.

l. Locations of the Application: This filing may be viewed on the Commission's website at http://www.ferc.gov/docs-filing/elibrary.asp. Enter the docket number P-3185 in the docket number field to access the documents. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above and at the Commission's Public Reference Room, located at 888 First Street NE, Room 2A, Washington, DC 20426, or by calling (202) 502-8371.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: May 9, 2019.
Kimberly D. Bose,
Secretary.

[FR Doc. 2019-10049 Filed 5-14-19; 8:45 am]

BILLING CODE 6717-01-P